DEPARTMENT OF COMMERCE

Foreign-Trade Zones Board

[Docket 27-2007]

Foreign-Trade Zone 103 - Grand Forks, North Dakota, Expansion of Manufacturing Authority -- Subzone 103A, Imation Enterprise Corp., Wahpeton, North Dakota

An application has been submitted to the Foreign-Trade Zones Board (the Board) by Imation Enterprise Corp. (Imation), requesting authority to expand the scope of manufacturing activity conducted under zone procedures within Subzone 103A at the Imation facilities in Wahpeton, North Dakota. The application was submitted pursuant to the provisions of the Foreign-Trade Zones Act, as amended (19 U.S.C. 81a-81u), and the regulations of the Board (15 CFR part 400). It was formally filed on July 23, 2007.

Subzone 103A (400 employees) was approved by the Board in 2000 for the manufacture of data storage products (Board Order 1099, 65 FR 37115, 6/13/00). The subzone consists of two sites (112 acres total): Site 1 (95 acres) is located at 2100 15th Street North, Wahpeton, North Dakota; Site 2 (17 acres) is located at 1205 North Tower Road, Route 2, Fergus Falls, Minnesota.

The current request involves the addition of imported RFID chips (HTSUS 8543.70, duty rate 2.6%) to the company's scope of authority for use in the production of data tape cartridges (duty free). No additional finished products have been requested. The scope otherwise would remain unchanged.

FTZ procedures would exempt Imation from customs duty payments on the RFID chips used in export production. The company anticipates that some 53 percent of the plant's shipments will be exported. On its domestic sales, Imation would be able to choose the duty rate during customs entry procedures that apply to finished data tape cartridges for the RFID chips. The application indicates that the savings from zone procedures help improve the plant's international competitiveness.

In accordance with the Board's regulations, a member of the FTZ staff has been appointed examiner to investigate the application and report to the Board.

Public comment is invited from interested parties. Submissions (original and 3 copies) shall be addressed to the Board's Executive Secretary at the address below. The closing period for their receipt is October 1, 2007. Rebuttal comments in response to material submitted during the foregoing period may be submitted during the subsequent 15-day period to October 15, 2007.

A copy of the application and accompanying exhibits will be available for public inspection at each of the following locations:

U.S. Department of Commerce Export Assistance Center, 51 Broadway, Suite 505, Fargo, ND 58102.

Office of the Executive Secretary, Foreign-Trade Zones Board, U.S. Department of Commerce, Room 2111, 1401 Constitution Ave. NW., Washington, DC 20230.

For further information, contact Elizabeth Whiteman at Elizabeth_Whiteman@ita.doc.gov or (202) 482-0473.

Dated: July 23, 2007.
Andrew McGilvray,
Executive Secretary.

[FR Doc. E7-14788 Filed 7-30-07; 8:45 am]

BILLING CODE 3510-DS-S